DEPARTMENT OF THE INTERIOR

National Park Service

Notice of Inventory Completion: U.S. Department of the Interior, Bureau of Land Management, Alaska State Office, Anchorage, AK

AGENCY: National Park Service, Interior.

ACTION: Notice.

Notice is here given in accordance with the Native American Graves Protection and Repatriation Act (NAGPRA), 25 U.S.C. 3003, of the completion of an inventory of human remains in the control of the U.S. Department of the Interior, Bureau of Land Management, Alaska State Office, Anchorage, AK. The human remains were removed from Amaknak Island and Unalaska Island, Aleutians East Borough, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Bureau of Land Management and Smithsonian Institution professional staff in consultation with representatives of the Ounalashka Corporation and Qawalangin Tribe of Unalaska.

Sometime during the 1950s to 1970s, human remains representing a minimum of one individual were removed from the Kismaliuk Cave site, which is located west of Unalaska on Unalaska Island in the Fox Island group of the eastern Aleutian Islands, Aleutians East Borough, AK. No known individual was identified. No associated funerary objects are present.

Sometime during the 1950s to 1970s, human remains representing a minimum of two individuals were removed from the Amaknak-D site near Unalaska on Amaknak Island in the Fox Island group of the eastern Aleutian Islands, Aleutians East Borough, AK. No known individuals were identified. No associated funerary objects are present.

According to museum records, the human remains were excavated by the now-deceased Dr. William Laughlin of the University of Wisconsin under Federal permits. All excavations were done on land managed by the Bureau of Land Management at the time. No further information was found in museum records. In 2007, these human remains were moved from the University of Wisconsin to the Smithsonian Institution for inventory.

Unalaska Island and nearby Amaknak Island have been inhabited for over 8,000 years by Aleut (Unangan) people. Based on geographical location, oral history, and archeological evidence, the human remains from these two islands are determined to be Native American and ancestors of members of the Ounalashka Corporation and Qawalangin Tribe of Unalaska.

Officials of the Bureau of Land Management have determined that, pursuant to 25 U.S.C. 3001 (9-10), the human remains described above represent the physical remains of three individuals of Native American ancestry. Officials of the Bureau of Land Management have also determined that, pursuant to 25 U.S.C. 3001 (2), there is a relationship of shared group identity that can be reasonably traced between the Native American human remains and the Ounalashka Corporation and Qawalangin Tribe of Unalaska.

Representatives of any other Indian tribe that believes itself to be culturally affiliated with the human remains should contact Dr. Robert E. King, Alaska State NAGPRA Coordinator, Bureau of Land Management, 222 W.7th Avenue, Box 13, Anchorage, AK 99513-7599, telephone (907) 271-5510, before June 26, 2009. Repatriation of the human remains to the Ounalashka Corporation and Qawalangin Tribe of Unalaska may proceed after that date if no additional claimants come forward.

The Bureau of Land Management is responsible for notifying the Ounalashka Corporation and Qawalangin Tribe of Unalaska that this notice has been published.

Dated: May 13, 2009.
Sherry Hutt,
Manager, National NAGPRA Program.

[FR Doc. E9-12271 Filed 5-26-09; 8:45 am]

BILLING CODE 4312-50-S